DEPARTMENT OF THE INTERIOR

Bureau of Land Management

Lower Snake River District Resource Advisory Council; Notice of Meeting

AGENCY: Bureau of Land Management, Interior.

ACTION: Notice of Meeting.

SUMMARY: The Lower Snake River District Resource Advisory Council will meet in Boise. Agenda topics include subgroup reports on the OHV initiative, sage grouse and river recreation, as well as an update on the two new Resource Management Plans and other land management issues.

DATES: May 15, 2002. The meeting will begin at 9:00 AM. Public comment periods will be held after each topic. The meeting is expected to adjourn at 4:00 PM.

ADDRESSES: The meeting will be held at the Lower Snake River District Office, located at 3948 Development Avenue, Boise Idaho.

FOR FURTHER INFORMATION CONTACT: Mary Jones, Lower Snake River District Office (208-384-3305).

Dated: January 8, 2002.
Howard Hedrick,
Acting District Manager.

[FR Doc. 02-7837 Filed 4-1-02; 8:45 am]

BILLING CODE 4310-GJ-P